DEPARTMENT OF HOMELAND SECURITY

Federal Emergency Management Agency

[Docket ID: FEMA-2015-0006]

Notice of Public Meeting on the Proposed Revised Guidelines for Implementing Executive Order 11988, Floodplain Management, As Revised Through the Federal Flood Risk Management Standard

AGENCY: Federal Emergency Management Agency, DHS.

ACTION: Notice.

SUMMARY: This notice is to announce a public meeting to solicit public input on the proposed “Revised Guidelines for Implementing Executive Order 11988, Floodplain Management.”

DATES: The public meeting will be held in New York, NY on March 27, 2015, from 2:00 p.m. to 5:00 p.m. Eastern Daylight Time (EDT).

ADDRESSES: The public meeting will be held in New York, NY, at Columbia Law School, Room 104, 435 West 116th Street, New York, NY 10027.

For information on facilities or services for individuals with disabilities or to request special assistance at the meeting, please contact the person listed in the FOR FURTHER INFORMATION CONTACT section by March 24.

Due to space constraints of the facility, seating will be limited to 180 participants for the meeting. To reserve a seat in advance for this meeting, please provide a request via email or mail with the contact information of the participant (including name, mailing address, and email address), the meeting to be attended, and include the subject/attention line (or on the envelope if by mail): Reservation Request for FFRMS Meeting. Advance reservations are preferred at least three (3) business days prior to the meeting to ensure processing, but will be accepted until capacity is reached. Unregistered participants will be accepted after all participants with reservations have been accommodated and will be admitted on a first-come, first-serve basis, provided the person capacity is not exceeded. To submit reservations, please email: FEMA-FFRMS@fema.dhs.gov or send by mail to the address listed in the FOR FURTHER INFORMATION CONTACT caption.

To facilitate public participation, members of the public are invited to provide written comments on the issues to be considered at the public meetings. Comments may be submitted by one of the following methods:

• Federal eRulemaking Portal: http://www.regulations.gov. Follow the instructions for submitting comments.

• Mail: Regulatory Affairs Division, Office of Chief Counsel, FEMA, 500 C Street SW., Room 8NE, Washington, DC 20472-3100.

Instructions: All submissions received must include the docket ID FEMA-2015-0006. Comments received will be posted without alteration at http://www.regulations.gov, including any personal information provided.

Docket: For access to the docket to read comments received, go to http://www.regulations.gov, and search for the Docket ID FEMA-2015-0006.

FOR FURTHER INFORMATION CONTACT: Bradley Garner, 202-646-3901 or FEMA-FFRMS@fema.dhs.gov. Mailing Address: FFRMS, 1800 South Bell Street, Room 627, Arlington, VA 20598-3030. The Web site is https://www.fema.gov/federal-flood-risk-management-standard-ffrms.

SUPPLEMENTARY INFORMATION: On January 30, 2015, the President signed Executive Order 13690, directing FEMA, on behalf of the Mitigation Framework Leadership Group, to publish for public comment draft revised Floodplain Management Guidelines to provide guidance to agencies on the implementation of Executive Order 11988, as amended, consistent with a new Federal Flood Risk Management Standard. These draft revised Guidelines were developed by the Mitigation Framework Leadership Group in consultation with the Federal Interagency Floodplain Management Task Force. FEMA is publishing this Notice on behalf of the Mitigation Framework Leadership Group, which is chaired by FEMA, to solicit and consider public input on the draft revised Guidelines at a public meeting.

Background information about these topics is available on the FFRMS Web site at https://www.fema.gov/federal-flood-risk-management-standard-ffrms or in the docket for this Notice at www.regulations.gov, Docket ID FEMA-2015-0006.

The meeting is exempt from the Federal Advisory Committee Act (FACA), as the Mitigation Framework Leadership Group is an intergovernmental committee and falls under the intergovernmental committee exception to FACA, 41 CFR 102-3.40(g).

Authority: Executive Order 11988, as amended; Executive Order 13690.

Dated: March 16, 2015.
Roy Wright,
Deputy Associate Administrator for Mitigation, Federal Emergency Management Agency.

[FR Doc. 2015-06551 Filed 3-20-15; 8:45 am]

BILLING CODE 9111-47-P